DEPARTMENT OF DEFENSE

Defense Logistics Agency

Privacy Act of 1974; Systems of Records

AGENCY: Defense Logistics Agency, DoD.

ACTION: Notice to Amend Systems of Records.

SUMMARY: The Defense Logistics Agency proposes to amend a system of records notice in its inventory of record systems subject to the Privacy Act of 1974 (5 U.S.C. 552a), as amended.

DATES: This action will be effective without further notice on November 24, 2003 unless comments are received that would result in a contrary determination.

ADDRESSES: Send comments to the Privacy Act Officer, Headquarters, Defense Logistics Agency, Attn: DSS-B, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The Defense Logistics Agency proposes to amend a system of records notice in its inventory of record systems subject to the Privacy Act of 1974 (5 U.S.C. 552a), as amended. The amendment is not within the purview of subsection (r) of the Privacy Act of 1974 (5 U.S.C. 552a), as amended, which requires the submission of a new or altered system report.

Dated: October 16, 2003.
Patricia L. Toppings,
Alternate OSD Federal Register Liaison Officer, Department of Defense.

S200.10 CAH

System name:

Individual Military Personnel Records (July 19, 1999, 64 FR 38661).

Changes:

System identifier:

Delete from entry ‘CAH’.

* * * * *

System location:

Delete entry and replace with ‘Staff Director, Military Personnel and Administration, Human Resources, 8725 John J. Kingman Road, Stop 6231, Fort Belvoir, VA 22060-6221, and DLA field activities. Official mailing addresses are published as an appendix to DLA’s compilation of systems of records notices.’

* * * * *

Categories of individuals covered by the system:

Add “military” between “duty” and “personnel.”

* * * * *

Categories of records in the system:

Add “home e-mail address; photograph; security clearance data;” after “address of record.”

* * * * *

S200.10

System name:

Individual Military Personnel Records.

System location:

Staff Director, Military Personnel and Administration, Human Resources, 8725 John J. Kingman Road, Stop 6231, Fort Belvoir, VA 22060-6221, and DLA field activities. Official mailing addresses are published as an appendix to DLA’s compilation of systems of records notices.

Categories of individuals covered by the system:

Active duty military personnel assigned to DLA.

Categories of records in the system:

Files include name; rank; Social Security Number; home and address of record; home e-mail address; photograph; security clearance data; general and special orders; evaluations; and details pertaining to classification, duties, assignment, promotion, proposed disciplinary actions, advancement, performance, training, education, qualifications, readiness, personal affairs, and benefits/entitlements.

Authority for maintenance of the system:

10 U.S.C. Part II, Personnel; 5 U.S.C. 302(b)(1), Delegation of authority; and E.O. 9397 (SSN).

Purpose(s):

The records are maintained as a local repository of documents generated during the service member's assignment at DLA. The files are used to manage, administer, and document the service member's assignment; to provide career advice to service members; and to advise local Commanders and the Director of incidents.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of DLA's compilation of systems of records notices apply to this system.

Policies and practices for storing, retrieving, accessing, retaining, and disposing of records in the system:

Storage:

Records are stored in paper and computerized form.

Retrievability:

Retrieved alphabetically by last name.

Safeguards:

Records are maintained in areas accessible only to DLA personnel who must access the records to perform their duties. The computerized files are password protected with access restricted to authorized users.

Retention and disposal:

Upon reassignment from DLA, records are offered to the military service concerned.

System manager(s) and address:

Staff Director, Military Personnel and Administration, Human Resources, 8725 John J. Kingman Road, Stop 6231, Fort Belvoir, VA 22060-6221, and DLA field activities. Official mailing addresses are published as an appendix to DLA's compilation of systems of records notices.

Notification procedure:

Individuals seeking to determine whether this system of records contains information about themselves should address written inquiries to the Privacy Act Officer, Headquarters, Defense Logistics Agency, Attn: DSS-B, 8725 John J. Kingman Road, Stop 6220, Fort Belvoir, VA 22060-6221, or to the Privacy Act Officer of the DLA field activity involved. Official mailing addresses are published as an appendix to DLA's compilation of systems of records notices.

Record access procedures:

Individuals seeking access to records about themselves contained in this system of records should address written inquiries to the Privacy Act Officer, Headquarters, Defense Logistics Agency, Attn: DSS-B, 8725 John J. Kingman Road, Stop 6220, Fort Belvoir, VA 22060-6221, or to the Privacy Act Officer of the DLA field activity involved. Official mailing addresses are published as an appendix to DLA's compilation of systems of records notices.

Contesting record procedures:

The DLA rules for accessing records, for contesting contents and appealing initial agency determinations are contained in DLA Regulation 5400.21, 32 CFR part 323, or may be obtained from the Privacy Act Officer, Headquarters, Defense Logistics Agency, Attn: DSS-B, 8725 John J. Kingman Road, Stop 6220, Fort Belvoir, VA 22060-6221.

Record source categories:

Information is provided by the individual, rating officials, and taken from orders, service records, in/out processing documents, and computer listings.

Exemptions claimed for the system:

None.

[FR Doc. 03-26856 Filed 10-23-03; 8:45 am]

BILLING CODE 5001-08-P